DEPARTMENT OF AGRICULTURE

Animal and Plant Health Inspection Service

[Docket No. APHIS-2014-0096]

Notice of Decision To Authorize the Interstate Movement of Sea Asparagus Tips From Hawaii Into the Continental United States

AGENCY: Animal and Plant Health Inspection Service, USDA.

ACTION: Notice.

SUMMARY: We are advising the public of our decision to authorize the interstate movement of fresh sea asparagus tips from Hawaii into the continental United States. Based on the findings of a pest list and a risk management document, which we made available to the public for review and comment through a previous notice, we have concluded that the application of one or more designated phytosanitary measures will be sufficient to mitigate the risks of introducing or disseminating plant pests or noxious weeds via the movement of fresh sea asparagus tips from Hawaii into the continental United States.

DATES: Effective May 8, 2015.

FOR FURTHER INFORMATION CONTACT: Mr. David Lamb, Senior Regulatory Policy Specialist, PPQ, APHIS, 4700 River Road, Unit 133, Riverdale, MD 20737-1231; (301) 851-2103.

SUPPLEMENTARY INFORMATION: Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables from Hawaii, Puerto Rico, the U.S. Virgin Islands, Guam, and the Commonwealth of the Northern Mariana Islands to the continental United States to prevent the spread of plant pests and noxious weeds that occur in Hawaii and the territories.

Section 318.13-4 contains a performance-based process for approving the interstate movement of certain fruits and vegetables from Hawaii and the U.S. territories that, based on the findings of a pest risk analysis, can be safely moved subject to one or more of the six phytosanitary measures listed in § 318.13-4(b).

APHIS received a request from the Hawaii Department of Agriculture to allow the interstate movement of fresh sea asparagus tips (Salicornia bigelovii Torr.) to the continental United States. Hawaii has indicated a specific interest in production and shipment of fresh sea asparagus tips, which are currently prohibited from interstate movement from Hawaii to the continental United States.

In accordance with the process in § 318.13-4, we published a notice ¹ in the Federal Register on January 23, 2015 (80 FR 3548-3549, Docket No. APHIS-2014-0096), in which we announced, for review and comment, the availability of a pest list that identifies pests of quarantine significance that could follow the pathway of interstate movement of sea asparagus tips into the continental United States. Based on that pest list, we prepared a risk management document (RMD) to identify phytosanitary measures that could be applied to the commodity to mitigate the pest risk.

¹ To view the notice, pest list, RMD, and comments we received, go to http://www.regulations.gov/#!docketDetail;D=APHIS-2014-0096.

We solicited comments on the pest list and RMD for 60 days ending on March 24, 2015. We received two comments by that date, from an organization of State plant regulatory agencies and a private citizen. Neither commenter opposed the action; however, one commenter asked for the scientific name and a general description of sea asparagus.

As stated in the RMD, sea asparagus (Salicornia bigelovii Torr.) is grown in salt water ponds on floating plant cultivation platforms where their roots are exposed to brackish waters. The asparagus tips do not touch water, soil, or sediments. Sea asparagus is sometimes referred to as “sea beans” or “sapphire greens” on restaurant menus and ingredient lists.

Therefore, in accordance with § 318.13-4, we our announcing our decision to authorize the interstate movement of sea asparagus from Hawaii to the continental United States subject to the following phytosanitary measures:

• Sea asparagus tips must be moved interstate as commercial consignments only, and

• Each consignment is subject to pre-departure inspection in Hawaii prior to interstate movement to the continental United States.

These conditions will be listed in the Hawaii Fruits and Vegetables Manual (available at http://www.aphis.usda.gov/import_export/plants/manuals/ports/downloads/hawaii.pdf).

Authority: 7 U.S.C. 7701-7772 and 7781-7786; 7 CFR 2.22, 2.80, and 371.3.

Done in Washington, DC, this 4th day of May 2015.
Kevin Shea,
Administrator, Animal and Plant Health Inspection Service.

[FR Doc. 2015-11124 Filed 5-7-15; 8:45 am]

BILLING CODE 3410-34-P